DEPARTMENT OF COMMERCE

International Trade Administration

[A-560-810]

Notice of Final Determination of Sales at Less Than Fair Value: Certain Expandable Polystyrene Resins From Indonesia

AGENCY: Import Administration, International Trade Administration, Department of Commerce.

EFFECTIVE DATE: November 16, 2000.

FOR FURTHER INFORMATION CONTACT: Charles Riggle at (202) 482-0650 or David Layton at (202) 482-0371, AD/CVD Enforcement, Office V, Group II, Import Administration, International Trade Administration, U.S. Department of Commerce, Room 1870, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations refer to the regulations codified at 19 CFR Part 351 (2000).

Final Determination

We determine that certain expandable polystyrene resins from Indonesia are being sold, or are likely to be sold, in the United States at less than fair value (LTFV), as provided in section 735 of the Act. The estimated margins of sales at LTFV are shown in the Suspension of Liquidation section of this notice.

Case History

The preliminary determination in this investigation was issued on June 20, 2000. See Notice of Preliminary Determination of Sales at Less Than Fair Value: Certain Expandable Polystyrene Resins From Indonesia, 65 FR 39349 (June 26, 2000) (Preliminary Determination). No briefs were filed in this investigation.

On August 3, 2000, the Department published a Federal Register notice postponing the deadline for the final determination until no later than November 8, 2000. See Notice of Postponement of Final Antidumping Duty Determination: Certain Expandable Polystyrene Resins from Indonesia, 65 FR 47713 (August 3, 2000).

Scope of Investigation

The scope of this investigation includes certain expandable polystyrene resins in primary forms; namely, raw material or resin manufactured in the form of polystyrene beads, whether of regular (shape) type or modified (block) type, regardless of specification, having a weighted-average molecular weight of between 160,000 and 260,000, containing from 3 to 7 percent blowing agents, and having bead sizes ranging from 0.4 mm to 3 mm.

Specifically excluded from the scope of this investigation are off-grade, off-specification expandable polystyrene resins.

The covered merchandise is found in the Harmonized Tariff Schedule of the United States (HTSUS) subheading 3903.11.00.00. Although this HTSUS subheading is provided for convenience and customs purposes, the written description of the merchandise is dispositive.

Period of Investigation

The period of investigation is October 1, 1998, through September 30, 1999.

Facts Available

In the preliminary determination, the Department based the dumping margin for the mandatory respondent, PT Risjad Brasali Styrindo (Brasali), on facts otherwise available, pursuant to section 776(a)(2)(A) of the Act. The use of facts otherwise available was required because the record did not contain company-specific information, given the respondent's failure to respond to the Department's antidumping questionnaire. For purposes of the preliminary determination, the Department also found that Brasali failed to cooperate by not acting to the best of its ability to comply with the Department's request for information, pursuant to section 776(b), and determined to use an adverse inference in selecting from among the facts otherwise available. Specifically, the Department assigned to the mandatory respondent the highest margin alleged in the petition, which was corroborated as required by section 776(c) of the Act. See Preliminary Determination. Following the preliminary determination, interested parties did not file any comment and have not objected to the Department's decision to use adverse facts available for the mandatory respondent in this investigation, or to the Department's choice of facts available. Accordingly, for the reasons discussed in the Preliminary Determination, for this final determination the Department is continuing to use the highest margin alleged by the petitioners for the mandatory respondent in this proceeding. In addition, the Department has left unchanged from the preliminary determination the “All Others Rate” in this investigation, which is the average of all the rates provided in the petition.

Continuation of Suspension of Liquidation

In accordance with section 735(c)(1)(B) of the Act, we are directing the Customs Service to continue to suspend all entries of expandable polystyrene resins from Indonesia, that are entered, or withdrawn from warehouse, for consumption on or after June 26, 2000, the date of publication of our preliminary determination. The Customs Service shall require a cash deposit or bond equal to the dumping margin, as indicated in the chart below. These instructions suspending liquidation will remain in effect until further notice. The dumping margins are provided below:

Manufacturer/exporter | Margin (percent)
PT Risjad Brasali Styrindo | 96.65
All Others | 95.79

ITC Notification

In accordance with section 735(d) of the Act, we have notified the International Trade Commission (ITC) of our determination. As our final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the Customs Service to assess antidumping duties on all imports of the subject merchandise entered, or withdrawn from warehouse, for consumption on or after the effective date of the suspension of liquidation.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: November 8, 2000.
Joseph A. Spetrini,
Acting Assistant Secretary, for Import Administration.

[FR Doc. 00-29406 Filed 11-15-00; 8:45 am]

BILLING CODE 3510-DS-P